DEPARTMENT OF TRANSPORTATION

Federal Aviation Administration

14 CFR Part 91

[Docket No. FAA-2007-29305; Notice No. 08-11]

RIN 2120-AI92

Automatic Dependent Surveillance—Broadcast (ADS-B) Out Performance Requirements To Support Air Traffic Control (ATC) Service; Reopening of Comment Period

AGENCY: Federal Aviation Administration (FAA), DOT.

ACTION: Notice of proposed rulemaking (NPRM); reopening of comment period.

SUMMARY: On October 5, 2007, the FAA published a Notice of Proposed Rulemaking (NPRM) that proposed performance requirements for certain avionics equipment on aircraft operating in specified classes of airspace within the United States National Airspace System. The comment period closed on March 3, 2008. The FAA is reopening the comment period for an additional 30 days to give the public an opportunity to comment on recommendations received from an Aviation Rulemaking Committee established by the Administrator on July 15, 2007.

DATES: Comments must be received on or before November 3, 2008.

ADDRESSES: You may send comments identified by Docket Number FAA-2007-29305 using any of the following methods:

• Federal eRulemaking Portal: Go to http://www.regulations.gov and follow the instructions for sending your comments electronically.

• Mail: Send comments to Docket Operations, M-30, U.S. Department of Transportation, 1200 New Jersey Avenue, SE., West Building Ground Floor, Room W12-140, Washington, DC 20590.

• Fax: Fax comments to Docket Operations at (202) 493-2251.

• Hand Delivery: Bring comments to Docket Operations in Room W12-140 of the West Building Ground Floor at 1200 New Jersey Avenue, SE., Washington, DC, between 9 a.m. and 5 p.m., Monday through Friday, except Federal holidays.

For more information on the rulemaking process, see the SUPPLEMENTARY INFORMATION section of this document.

Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78) or you may visit http://DocketsInfo.dot.gov.

Docket: To read background documents or comments received, go to http://www.regulations.gov at any time or to Docket Operations in Room W12-140 of the West Building Ground Floor at 1200 New Jersey Avenue, SE., Washington, DC, between 9 a.m. and 5 p.m., Monday through Friday, except Federal holidays.

FOR FURTHER INFORMATION CONTACT: Cindy Nordlie, ARM-108, Office of Rulemaking, Federal Aviation Administration, 800 Independence Avenue, SW., Washington, DC 20591, telephone (202) 267-7627.

SUPPLEMENTARY INFORMATION:

Comments Invited

The FAA invites interested persons to participate in this rulemaking by submitting written comments, data, or views on the ARC's recommendations. The most helpful comments reference a specific portion of the recommendation and include supporting data. To ensure the docket does not contain duplicate comments, please send only one copy of written comments, or if you are filing comments electronically, please submit your comments only one time.

We will file in the docket all comments we receive, as well as a report summarizing each substantive public contact with FAA personnel concerning this proposed rulemaking. We will consider all comments we receive on or before the closing date for comments. We will consider comments filed after the comment period has closed if it is possible to do so without incurring expense or delay.

Availability of Rulemaking Documents

You can get an electronic copy using the Internet by:

(1) Searching the Federal eRulemaking Portal at http://www.regulations.gov;

(2) Visiting the Office of Rulemaking's Web page at http://www.faa.gov/avr/arm/index.cfm; or

(3) Accessing the Government Printing Office's Web page at http://www.gpoaccess.gov/fr/index.html.

You can also get a copy by sending a request to the Federal Aviation Administration, Office of Rulemaking, ARM-1, 800 Independence Avenue, SW., Washington, DC 20591, or by calling (202) 267-9680. Make sure to identify the docket number, notice number, or amendment number of this rulemaking.

Background

On October 5, 2007, the FAA published Notice No. 07-15, Automatic Dependent Surveillance—Broadcast (ADS-B) Out performance requirements to support Air Traffic Control (ATC) service (72 FR 56947; Oct. 5, 2007). Comments to that document were to be received on or before January 3, 2008. On November 19, 2007, the FAA extended the comment period until March 3, 2008 (72 FR 64966).

On July 15, 2007, the Administrator established the ADS-B Aviation Rulemaking Committee (ARC). The ADS-B ARC provides a forum for the U.S. aviation community to discuss and review the ADS-B NPRM, formulate recommendations on presenting and structuring an ADS-B mandate, and consider additional actions that may be necessary to implement those recommendations. On September 26, 2008, pursuant to its responsibilities under the charter, the ADS-B ARC submitted to the FAA specific recommendations addressing the NPRM. These ARC recommendations have been placed in the docket.

To give the public an opportunity to comment on the recommendations received from the ARC, the FAA is reopening the comment period for an additional 30 days. The purpose of the comment period is to receive public comments on the ARC recommendations; the FAA is not reopening the comment period on the NPRM.

Issued in Washington, DC, on September 29, 2008.
Pamela Hamilton-Powell,
Director, Office of Rulemaking.

[FR Doc. E8-23199 Filed 10-1-08; 8:45 am]

BILLING CODE 4910-13-P